DEPARTMENT OF ENERGY

Federal Energy Regulatory Commission

Combined Notice of Filings #2

September 20, 2010.

Take notice that the Commission received the following electric rate filings:

Docket Numbers: ER10-2746-000.

Applicants: PJM Interconnection, L.L.C.

Description: PJM Interconnection, L.L.C. submits tariff filing per 35.12: Interregional Agreements baseline to be effective 9/17/2010.

Filed Date: 09/17/2010.

Accession Number: 20100917-5140.

Comment Date: 5 p.m. Eastern Time on Friday, October 08, 2010.

Docket Numbers: ER10-2747-000.

Applicants: PJM Interconnection, L.L.C.

Description: PJM Interconnection, L.L.C. submits executed Wholesale Market Participation Agreement with SX Landfill Energy, LLC et al.

Filed Date: 09/17/2010.

Accession Number: 20100917-0212.

Comment Date: 5 p.m. Eastern Time on Friday, October 08, 2010.

Docket Numbers: ER10-2748-000.

Applicants: Entergy Arkansas, Inc.

Description: Entergy Arkansas, Inc. submits tariff filing per 35.13(a)(2)(iii: Entergy Services, Inc. to be effective 11/16/2010.

Filed Date: 09/17/2010.

Accession Number: 20100917-5145.

Comment Date: 5 p.m. Eastern Time on Friday, October 08, 2010.

Docket Numbers: ER10-2749-000.

Applicants: Emera Energy Services Subsidiary No. 4 LLC.

Description: Emera Energy Services Subsidiary No. 4 LLC submits tariff filing per 35.12: EES Sub 4 MBR Tariff to be effective 9/20/2010.

Filed Date: 09/17/2010.

Accession Number: 20100917-5147.

Comment Date: 5 p.m. Eastern Time on Friday, October 08, 2010.

Docket Numbers: ER10-2750-000.

Applicants: The Order of St. Benedict of New Hampshire.

Description: The Order of St. Benedict of New Hampshire submits application for authorization to make wholesale sales of energy and capacity at negotiated market based rates.

Filed Date: 09/17/2010.

Accession Number: 20100917-0213.

Comment Date: 5 p.m. Eastern Time on Friday, October 08, 2010.

Docket Numbers: ER10-2751-000.

Applicants: Renaissance Power, L.L.C.

Description: Renaissance Power, L.L.C. submits tariff filing per 35.12: Market-Based Rate Tariff in Compliance with Order No. 714 to be effective 9/17/2010.

Filed Date: 09/17/2010.

Accession Number: 20100917-5151.

Comment Date: 5 p.m. Eastern Time on Friday, October 08, 2010.

Docket Numbers: ER10-2752-000.

Applicants: Emera Energy Services Subsidiary No. 5 LLC.

Description: Emera Energy Services Subsidiary No. 5 LLC submits tariff filing per 35.12: EES Sub 5 MBR Tariff to be effective 9/20/2010.

Filed Date: 09/17/2010.

Accession Number: 20100917-5152.

Comment Date: 5 p.m. Eastern Time on Friday, October 08, 2010.

Docket Numbers: ER10-2753-000.

Applicants: Domtar.

Description: Domtar submits tariff filing per 35.12: Baseline eTariff Filing Pursuant to Order No. 714 to be effective 9/20/2010.

Filed Date: 09/17/2010.

Accession Number: 20100917-5153.

Comment Date: 5 p.m. Eastern Time on Friday, October 08, 2010.

Docket Numbers: ER10-2754-000.

Applicants: New England Wire Technologies Corporation.

Description: New England submits application for authorization to make wholesale sales of energy and capacity at negotiated market based rates.

Filed Date: 09/17/2010.

Accession Number: 20100917-0211.

Comment Date: 5 p.m. Eastern Time on Friday, October 08, 2010.

Docket Numbers: ER10-2755-000.

Applicants: Las Vegas Power Company, LLC.

Description: Las Vegas Power Company, LLC submits tariff filing per 35.12: Market-Based Rate Tariff in Compliance with Order No. 714 to be effective 9/17/2010.

Filed Date: 09/17/2010.

Accession Number: 20100917-5155.

Comment Date: 5 p.m. Eastern Time on Friday, October 08, 2010.

Docket Numbers: ER10-2756-000.

Applicants: Griffith Energy LLC.

Description: Griffith Energy LLC submits tariff filing per 35.12: Market-Based Rate Tariff in Compliance with Order No. 714 to be effective 9/17/2010.

Filed Date: 09/17/2010.

Accession Number: 20100917-5157.

Comment Date: 5 p.m. Eastern Time on Friday, October 08, 2010.

Docket Numbers: ER10-2757-000.

Applicants: Arlington Valley, LLC.

Description: Arlington Valley, LLC submits tariff filing per 35.12: Market-Based Rate Tariff in Compliance with Order No. 714 to be effective 9/17/2010.

Filed Date: 09/17/2010.

Accession Number: 20100917-5161.

Comment Date: 5 p.m. Eastern Time on Friday, October 08, 2010.

Docket Numbers: ER10-2758-000.

Applicants: EnergyConnect, Inc.

Description: EnergyConnect, Inc. submits tariff filing per 35.12: Energy Connect, Inc. Rate Schedule FERC No. 1 to be effective 11/17/2010.

Filed Date: 09/17/2010.

Accession Number: 20100917-5165.

Comment Date: 5 p.m. Eastern Time on Friday, October 08, 2010.

Docket Numbers: ER10-2759-000.

Applicants: Bridgeport Energy, LLC.

Description: Bridgeport Energy, LLC submits tariff filing per 35.12: Market-Based Rate Tariff in Compliance with Order No. 714 to be effective 9/17/2010.

Filed Date: 09/17/2010.

Accession Number: 20100917-5170.

Comment Date: 5 p.m. Eastern Time on Friday, October 08, 2010.

Docket Numbers: ER10-2760-000.

Applicants: Waterbury Generation LLC.

Description: Request for Waiver of Unreserved Transmission Use Penalties, Shortened Notice Period and Expedited Approval of Waterbury Generation LLC.

Filed Date: 09/17/2010.

Accession Number: 20100917-5195.

Comment Date: 5 p.m. Eastern Time on Friday, October 08, 2010.

Docket Numbers: ER10-2761-000

Applicants: Fulcrum Power Marketing LLC

Description: Fulcrum Power Marketing LLC submits tariff filing per 35.12: Fulcrum Market-Based Rate Tariff to be effective 9/21/2010.

Filed Date: 09/20/2010

Accession Number: 20100920-5030

Comment Date: 5 p.m. Eastern Time on Tuesday, October 12, 2010.

Docket Numbers: ER10-2762-000.

Applicants: Linde Energy Services, Inc.

Description: Linde Energy Services, Inc. submits tariff filing per 35.12: MBRA Tariff to be effective 9/20/2010.

Filed Date: 09/20/2010.

Accession Number: 20100920-5036.

Comment Date: 5 p.m. Eastern Time on Tuesday, October 12, 2010.

Docket Numbers: ER10-2763-000.

Applicants: Bangor Hydro Electric Company.

Description: Bangor Hydro Electric Company submits their proposed tariff Wholesale Market Based Rates Power Sales Tariff, to be effective 9/21/2010.

Filed Date: 09/20/2010.

Accession Number: 20100920-5041.

Comment Date: 5 p.m. Eastern Time on Tuesday, October 12, 2010.

Docket Numbers: ER10-2764-000.

Applicants: Vantage Wind Energy LLC.

Description: Vantage Wind Energy LLC submits tariff filing per 35.12: Baseline Filing of Market-Based Rate Tariff to be effective 9/20/2010.

Filed Date: 09/20/2010.

Accession Number: 20100920-5045.

Comment Date: 5 p.m. Eastern Time on Tuesday, October 12, 2010.

Docket Numbers: ER10-2765-000.

Applicants: Dighton Power, LLC.

Description: Dighton Power, LLC submits tariff filing per 35.12: Baseline Filing of Market-Based Rate Tariff to be effective 9/20/2010.

Filed Date: 09/20/2010.

Accession Number: 20100920-5057.

Comment Date: 5 p.m. Eastern Time on Tuesday, October 12, 2010.

Docket Numbers: ER10-2766-000.

Applicants: Lake Road Generating Company, L.P.

Description: Lake Road Generating Company, L.P. submits tariff filing per 35.12: Baseline Filing of Market-Based Rate Tariff to be effective 9/20/2010.

Filed Date: 09/20/2010.

Accession Number: 20100920-5058.

Comment Date: 5 p.m. Eastern Time on Tuesday, October 12, 2010.

Docket Numbers: ER10-2767-000.

Applicants: MASSPOWER.

Description: MASSPOWER submits tariff filing per 35.12: Baseline Filing of Market-Based Rate Tariff to be effective 9/20/2010.

Filed Date: 09/20/2010.

Accession Number: 20100920-5059.

Comment Date: 5 p.m. Eastern Time on Tuesday, October 12, 2010.

Docket Numbers: ER10-2768-000.

Applicants: Empire Generating Co, LLC.

Description: Empire Generating Co, LLC submits tariff filing per 35.12: Baseline Filing of Market-Based Rate Tariff to be effective 9/20/2010.

Filed Date: 09/20/2010.

Accession Number: 20100920-5060.

Comment Date: 5 p.m. Eastern Time on Tuesday, October 12, 2010.

Docket Numbers: ER10-2769-000.

Applicants: ECP Energy I, LLC.

Description: ECP Energy I, LLC submits tariff filing per 35.12: Baseline Filing of Market-Based Rate Tariff to be effective 9/20/2010.

Filed Date: 09/20/2010.

Accession Number: 20100920-5061.

Comment Date: 5 p.m. Eastern Time on Tuesday, October 12, 2010.

Docket Numbers: ER10-2770-000.

Applicants: EquiPower Resources Management, LLC.

Description: EquiPower Resources Management, LLC submits tariff filing per 35.12: Baseline Filing of Market-Based Rate Tariff to be effective 9/20/2010.

Filed Date: 09/20/2010.

Accession Number: 20100920-5062.

Comment Date: 5 p.m. Eastern Time on Tuesday, October 12, 2010.

Docket Numbers: ER10-2771-000.

Applicants: National Grid Generation LLC.

Description: National Grid Generation LLC submits tariff filing per 35.12: Filing to Create Tariff Identifier for Service Agreements and Rate Schedules to be effective 9/20/2010.

Filed Date: 09/20/2010.

Accession Number: 20100920-5070.

Comment Date: 5 p.m. Eastern Time on Tuesday, October 12, 2010.

Docket Numbers: ER10-2772-000.

Applicants: New England Hydro Transmission Corporation.

Description: New England Hydro Transmission Corporation submits tariff filing per 35.12: Filing to Create Tariff Identifier for Service Agreements and Rate Schedules to be effective 9/20/2010.

Filed Date: 09/20/2010.

Accession Number: 20100920-5084.

Comment Date: 5 p.m. Eastern Time on Tuesday, October 12, 2010.

Docket Numbers: ER10-2773-000.

Applicants: New England Hydro Transmission Electric.

Description: New England Hydro Transmission Electric Company submits tariff filing per 35.12: Filing to Create Tariff Identifier for Service Agreements and Rate Schedules to be effective 9/20/2010.

Filed Date: 09/20/2010.

Accession Number: 20100920-5090.

Comment Date: 5 p.m. Eastern Time on Tuesday, October 12, 2010.

Docket Numbers: ER10-2774-000.

Applicants: Arizona Solar One LLC.

Description: Arizona Solar One LLC submits tariff filing per 35.12: Initial Market-Based Rate Application to be effective 10/11/2010 under ER10-02774-000. Filing Type: 400.

Filed Date: 09/20/2010.

Accession Number: 20100920-5106.

Comment Date: 5 p.m. Eastern Time on Tuesday, October 12, 2010.

Docket Numbers: ER10-2775-000.

Applicants: Beacon Power Corporation.

Description: Beacon Power Corporation submits tariff filing per 35.12: Stephentown FERC Electric Tariff, Volume No. 1 Baseline Filing to be effective 9/20/2010 under ER10-02775-000. Filing Type: 360.

Filed Date: 09/20/2010.

Accession Number: 20100920-5109.

Comment Date: 5 p.m. Eastern Time on Tuesday, October 12, 2010.

Docket Numbers: ER10-2776-000.

Applicants: Wells Fargo Commodities, LLC.

Description: Wells Fargo Commodities, LLC submits tariff filing per 35.12: Wells Fargo Commodities, LLC Market-Based Rate Tariff to be effective 9/17/2010 under ER10-02776-000. Filing Type: 360.

Filed Date: 09/20/2010.

Accession Number: 20100920-5111.

Comment Date: 5 p.m. Eastern Time on Tuesday, October 12, 2010.

Docket Numbers: ER10-2777-000.

Applicants: Avista Corporation.

Description: Avista Corporation submits tariff filing per 35: Compliance Filing Docket No. OA10-11 to be effective 9/22/2010 under ER10-02777-000. Filing Type: 80.

Filed Date: 09/20/2010.

Accession Number: 20100920-5113.

Comment Date: 5 p.m. Eastern Time on Tuesday, October 12, 2010.

Docket Numbers: ER10-2778-000.

Applicants: Rainbow Energy Marketing Corp.

Description: Rainbow Energy Marketing Corp. submits tariff filing per 35.12: Rainbow Energy Marketing—FERC Electric Tariff to be effective 9/20/2010 under ER10-02778-000. Filing Type: 360.

Filed Date: 09/20/2010.

Accession Number: 20100920-5114.

Comment Date: 5 p.m. Eastern Time on Tuesday, October 12, 2010.

Take notice that the Commission received the following qualifying facility filings:

Docket Numbers: QF10-669-000.

Applicants: PowerSecure, Inc.

Description: Self-Certification of QF of PowerSecure Inc.

Filed Date: 09/17/2010.

Accession Number: 20100917-5077.

Comment Date: Not Applicable.

Take notice that the Commission received the following electric reliability filings:

Docket Numbers: RD10-15-000.

Applicants: North American Electric Reliability Corporation

Description: Petition of the North American Electric Reliability Corporation for Approval of Proposed Modifications to Reliability Standards BAL-002-1; EOP-002-3; FAC-002-1; MOD-021-2; PRC-004-2; and VAR-001-2.

Filed Date: 09/09/2010.

Accession Number: 20100909-5184.

Comment Date: 5 p.m. Eastern Time on Wednesday, September 29, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-24078 Filed 9-24-10; 8:45 am]

BILLING CODE 6717-01-P